FEDERAL TRADE COMMISSION

[Docket No. 9374]

Louisiana Real Estate Appraisers Board Oral Argument Before the Commission

AGENCY: Federal Trade Commission.

ACTION: Oral argument; open meeting.

SUMMARY: The Federal Trade Commission (“FTC” or “Commission”) will meet on Thursday, February 22, 2018, in Room 532 of the FTC Building for an Oral Argument In the Matter of Louisiana Real Estate Appraisers Board. The public is invited to attend and observe the open portion of the meeting, which is scheduled to begin at 2:00 p.m. The remainder of the meeting will be closed to the public.

DATES: Oral argument is scheduled for February 22, 2018 at 2:00 p.m.

ADDRESSES: Federal Trade Commission Building, 600 Pennsylvania Avenue NW, Washington, DC 20580.

FOR FURTHER INFORMATION CONTACT: Donald S. Clark, Secretary, Office of the Secretary, 600 Pennsylvania Avenue NW, Washington, DC 20580, 202-326-2515.

SUPPLEMENTARY INFORMATION:

Open Meeting

(1) Oral Argument In the Matter of Louisiana Real Estate Appraisers Board, Docket No. 9374.

Closed Meeting

(2) Executive Session to follow Oral Argument In the Matter of Louisiana Real Estate Appraisers Board, Docket No. 9374.

Record of Commission's Vote

On February 6, 2018, Commissioners Ohlhausen and McSweeny were recorded as voting in the affirmative to close Matter Number Two, and to withhold from this meeting notice such information as is exempt from disclosure under 5 U.S.C. 552b(c).

Commission's Explanation of Closing

The Commission has determined that Matter Number Two may be closed under 5 U.S.C. 552b(c)(10), and that the public interest does not require the matter to be open.

General Counsel Certification

The General Counsel has certified that Matter Number Two may properly be closed, citing the following relevant exemptive provision: 5 U.S.C. 552b(c)(10).

Expected Attendees

Expected to attend the closed meeting are the Commissioners themselves, an advisor to one of the Commissioners, and such other Commission staff as may be appropriate.

By direction of the Commission.
Donald S. Clark,
Secretary.

[FR Doc. 2018-03410 Filed 2-16-18; 8:45 am]

BILLING CODE 6750-01-P